DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Charlotte Area Transit System

[Waiver Petition Docket Number FRA-2006-25837]

The Charlotte Area Transit System (CATS) plans to operate and maintain a light rail system known as the South Corridor Light Rail Line (CATS System) with revenue service slated to begin in Fall 2007. CATS seeks a permanent waiver of compliance from sections of Title 49 of the CFR for operation of its 10-mile long CATS System that at times is adjacent to active Norfolk Southern Railway Company (NS) tracks in a shared corridor operation, thus representing a “limited connection” with the general railroad system. See Statement of Agency Policy Concerning Jurisdiction Over the Safety of Railroad Passenger Operations and Waivers Related to Shared Use of the Tracks of the General Railroad System by Light Rail and Conventional Equipment, 65 FR 42529 (July 10, 2000). See also Joint Statement of Agency Policy Concerning Shared Use of the Tracks of the General Railroad System by Conventional Railroads and Light Rail Transit Systems, 65 FR 42626 (July 10, 2000).

The CATS System is a new 10-mile long light rail operation that will share a corridor with NS freight trains in certain locations. The CATS System will run on its own tracks and NS will conduct freight rail operations on existing tracks that are located generally at least 40 feet from the nearest CATS System trackage at certain locations along the light rail alignment. The CATS System and NS will not share trackage or train control systems and the CATS System trackage and NS trackage will not cross at any location. The CATS System will share two public highway-rail grade crossings with NS, representing a limited connection and, as such, the CATS System is subject to FRA jurisdiction. These two shared crossings will be equipped with flashing lights and gates on each side of the roadway. The shared crossings will have interlocking relays so that both CATS crossing equipment and NS crossing equipment activate together in vital design. CATS and NS employees will maintain their own equipment on their respective sides of the shared crossing. CATS will employ five full-time Signal employees and their hours will be staggered to cover all hours when the CATS System is in revenue service. It is anticipated that most of the CATS System Signal employees will work standard 10-hour shifts, 4 days a week.

CATS is seeking a permanent waiver of compliance from certain sections of Title 49 of the CFR and offers that it is similarly governed by the System Safety Program Plan as required by the Federal Transit Administration. For this limited connection, CATS seeks a permanent waiver of compliance from 49 CFR part 228, Hours of Service of Railroad Employees. CATS anticipates never having more than 15 Signal employees and thereby qualifies to petition for a statutory exemption from the Hours of Service law (49 U.S.C. Section 21102(b)). CATS states it is seeking this waiver because it will give CATS the flexibility it needs to manage its small workforce. In order to schedule and implement preventive maintenance activities and to cover other operational requirements that may arise during scheduled activities, CATS says it needs the flexibility to deploy its limited workforce efficiently, occasionally having its Signal employees work longer shifts or stay on-call during non-revenue hours. CATS will not, under any circumstance, require these Signal employees to work more than 16 hours in any 24 hour period.

Interested parties are invited to participate in these proceedings by submitting written views, data, or comments. FRA does not anticipate scheduling a public hearing in connection with these proceedings since the facts do not appear to warrant a hearing. If any interested party desires an opportunity for oral comment, they should notify FRA in writing before the end of the comment period, specifying the basis for their request.

All communications concerning these proceedings should identify the appropriate docket number (e.g., Waiver Petition Docket Number 2006-25837) and must be submitted to the Docket Clerk, DOT Docket Management Facility, Room PL-401 (Plaza Level), 400 7th Street, SW., Washington, DC 20590. Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on April 20, 2007.
Michael J. Logue,
Deputy Associate of Administrator for Safety Compliance and Program Implementation.

[FR Doc. E7-8024 Filed 4-25-07; 8:45 am]

BILLING CODE 4910-06-P